DEPARTMENT OF AGRICULTURE

Forest Service

North San Juan Sheep and Goat EIS

AGENCY: Forest Service, Rio Grande National Forest, USDA.

ACTION: Notice of intent to prepare an environmental impact statement.

SUMMARY: This NEPA analysis began as an environmental assessment in 2006, then as Interdisciplinary Team discussions took place, it was recognized that completion of an environmental impact statement (EIS) would be more appropriate. The project is analyzing the action to continue to permit livestock (domestic sheep and goats) grazing within the North San Juan Sheep and Goat Allotments Analysis Area (hereinafter referred to as the Analysis Area) under an Adaptive Management strategy.

DATES: Comments concerning the scope of the analysis must be received by 30 days from the date of this notice. The draft environmental impact statement is expected December 31, 2008 and the final environmental impact statement is expected February 28, 2009.

ADDRESSES: Send written comments to Mr. Kelly Garcia, Team Leader, Rio Grande National Forest, Conejos Peak Ranger District, 15571 CR T.5, LaJara, CO 81140. Electronic mail (e-mail with subject, North San Juan comments) may be sent to comments-rocky-mountain.rio-grande-conejos-peak@fs.fed.us and a FAX may be sent to (719) 274-6301.

FOR FURTHER INFORMATION CONTACT: Same as above.

SUPPLEMENTARY INFORMATION: The Analysis area contains the Willow Mtn. Sheep and Goat (S&G) Allotment, Cornwall Mtn. S&G Allotment, Marble Mtn. S&G Allotment, Campo-Bonito S&G Allotments, Cropsy-Summit S&G Allotments, Elwood S&G Allotment, Treasure S&G Allotment, West Vega S&G Allotment, East Vega S&G Allotment, Upper Adams S&G Allotment and the North Fork-Middle Fork S&G Allotments.

Purpose and Need for Action

The purpose of this action is to provide forage for permitted domestic livestock grazing in a manner that maintains or moves conditions toward achieving Forest Plan objectives and desired conditions. There is an overall need for greater management flexibility. More specifically, the need for this action is tied to any important resource, social, or economic disparity that may be found when comparing the existing condition in the Analysis Area to the Forest Plan desired conditions, as determined by the interdisciplinary team (IDT) and authorized officer on a site-specific basis.

Proposed Action

The proposed action is to continue to permit livestock grazing within the North San Juan Sheep and Goats allotments analysis area, under an Adaptive Management strategy that would ensure meeting or moving toward the Rio Grande National Forest Land and Resource Management Plan (Forest Plan) and project-specific desired conditions. This proposal also generates the need to develop new allotment management plans (AMPs).

Responsible Official

The responsible official is the District Ranger, Rio Grande National Forest, Conejos Peak Ranger District, 15571 County Road T.5, La Jara, CO 81140.

Nature of Decision To Be Made

This EIS will disclose the environmental consequences of implementing the proposed action and alternatives to that action. A separate Record of Decision (ROD), signed by the responsible official, will explain the management and environmental reasons for selecting an alternative to be implemented. The ROD will disclose the rationale for choosing the selected alternative; discuss the rationale for rejecting other alternatives; and disclose how the decision responds to the relevant issues.

The decision that the responsible official will make in the Record of Decision is whether or not to authorize some level of livestock grazing on all, part, or none of the Analysis Area given considerations of Forest Plan desired conditions, goals and objectives, and public input. If the decision is made to authorize some level of livestock grazing, the management framework will be described (including standards, guidelines, grazing management, and monitoring) so that desired condition objectives are met or that movement occurs toward those objectives in an acceptable timeframe.

Scoping Process

The Rio Grande National Forest invited public comment and participation regarding this project through the Schedule of Proposed Actions (SOPA), public notice in the Valley Courier (January 21, 2006)—the newspaper of record and a scoping letter sent to potentially concerned public, tribal governments, State and other Federal agencies, (January 19, 2006). Comments received in these previous scoping efforts will be retained and considered in this EIS.

An additional comment period will be provided during scoping for this EIS in the form of this notice in the Federal Register, the Schedule of Proposed Actions (SOPA), public notice in the Valley Courier—the newspaper of record, and letters sent to potentially concerned public, tribal governments, State and other Federal agencies.

Comment Requested

This notice of intent initiates the scoping process which guides the development of the environmental impact statement. The Forest Service invites written comments on the proposed action, including any issues to consider, as well as any concerns relevant to the analysis. In order to be most useful, scoping comments should be received within 30 days of publication of this Notice of Intent. Comments received in response to this notice, including names and addresses of those who comment, will be considered part of the public record on this Proposed Action and will be available for public inspection. If you wish to withhold your name or street address from public review or from disclosure under the Freedom of Information Act (FOIA), you must state this prominently at the beginning of your written comment. Such requests will be honored to the extent allowed by law, but persons requesting such confidentiality should be aware that under the FOIA, confidentiality may be granted in only very limited circumstances, such as to protect trade secrets. The Forest Service will inform the requester of the agency's decision regarding the request for confidentiality, and where the request is denied, the agency will return the submission and notify the requester that the comments may be resubmitted with or without name and address within a specified number of days. All submissions from organizations or businesses, and from individuals identifying themselves as representatives or officials of organizations or businesses, will be available for public inspection in their entirety. Comments submitted anonymously will be accepted and considered; however, those who submit anonymous comments will not have standing to appeal the subsequent decision under 36 CFR part 215. Comments and FS responses will be addressed and contained in the Final EIS.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: March 11, 2008.
Larry R. Velarde,
Acting District Ranger.

[FR Doc. E8-5742 Filed 3-20-08; 8:45 am]

BILLING CODE 3410-11-P